DEPARTMENT OF VETERANS AFFAIRS

38 CFR Part 9

RIN 2900-AN00

Servicemembers' Group Life Insurance Traumatic Injury Protection Program

AGENCY: Department of Veterans Affairs.

ACTION: Final rule.

SUMMARY: This document adopts as a final rule, without change, an interim final rule amending the Department of Veterans Affairs (VA) regulation regarding the Servicemembers' Group Life Insurance traumatic injury protection (TSGLI) program. The amendment was necessary in order to add losses that would be covered under the program and to define terms that are relevant to these new losses. The final rule also clarifies existing language in the regulation and reorganizes several existing provisions.

DATES: Effective Date: June 4, 2009.

FOR FURTHER INFORMATION CONTACT: Jeanne King, Attorney-Advisor, Department of Veterans Affairs Regional Office and Insurance Center (310/290B), P.O. Box 8079, Philadelphia, Pennsylvania 19101, (215) 842-2000, ext. 4839 (This is not a toll-free number).

SUPPLEMENTARY INFORMATION: An interim final rule amending VA's regulation regarding the added losses to the TSGLI program, the clarification of existing language, and the reorganization of certain provisions was published in the Federal Register on November 26, 2008 (73 FR 71926).

We provided a 30-day comment period that ended on December 26, 2008. No comments were received. Based on the rationale set forth in the interim final rule, we now adopt the interim final rule as a final rule without change.

Administrative Procedure Act

This document, without change, affirms the amendment made by the interim final rule that is already in effect. The Secretary of Veterans Affairs concluded that, under 5 U.S.C. 553(b)(3)(B), there was good cause to dispense with the opportunity for prior comment with respect to this rule. The Secretary found that it was impracticable, unnecessary, and contrary to the public interest to delay this regulation for the purpose of soliciting prior public comment. Nevertheless, the Secretary invited public comment on the interim final rule but did not receive any comments. The amendment was consistent with the priorities established by Congress and was needed on an expedited basis because the prior version of the regulation would have precluded VA from providing a TSGLI payment for the other losses that the agency had determined should be added as a covered benefit under the program.

Unfunded Mandates

The Unfunded Mandates Reform Act of 1995 requires, at 2 U.S.C. 1532, that agencies prepare an assessment of anticipated costs and benefits before issuing any rule that may result in an expenditure by the State, local, and tribal governments, in the aggregate, or by the private sector, of $100 million or more (adjusted annually for inflation) in any given year. This final rule will have no such effect on State, local, and tribal governments, or on the private sector.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB) unless OMB waives such review, as any regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this final rule have been examined and it has been determined to be a significant regulatory action under the Executive Order because it is likely to result in a rule that may raise novel legal or policy issues arising out of legal mandates, the President's priorities, or the principles set forth in the Executive Order.

Paperwork Reduction Act

This document expands the collection of information under the Paperwork Reduction Act (44 U.S.C. 3501-3521) (the Act). Accordingly, under section 3507(d) of the Act, VA submitted a copy of the amended TSGLI form (titled Application for TSGLI Benefits Form) to OMB for its review of the proposed collection of information concurrent with the publication of the interim final rule.

Regulatory Flexibility Act

The Secretary hereby certifies that this final rule will not have a significant economic impact on a substantial number of small entities as they are defined in the Regulatory Flexibility Act, 5 U.S.C. 601 et seq. The rule will directly affect only individuals and will not directly affect small entities. Therefore, pursuant to 5 U.S.C. 605(b), this final rule is exempt from the initial and final regulatory flexibility analyses requirements of sections 603 and 604.

Catalog of Federal Domestic Assistance

The Catalog of Federal Domestic Assistance Program number and title for this rule is 64.103, Life Insurance for Veterans.

List of Subjects in 38 CFR Part 9

Life insurance, Military personnel, Veterans.

Approved: May 19, 2009.
John R. Gingrich,
Chief of Staff, Department of Veterans Affairs.

PART 9—SERVICEMEMBERS' GROUP LIFE INSURANCE AND VETERANS' GROUP LIFE INSURANCE

Accordingly, the interim final rule amending 38 CFR part 9, which was published at 73 FR 71926 on November 26, 2008, is adopted as a final rule without change.

[FR Doc. E9-13097 Filed 6-3-09; 8:45 am]

BILLING CODE 8320-01-P